DEPARTMENT OF DEFENSE

Department of the Army

Intent To Grant an Exclusive License of a U.S. Government-Owned Patent

AGENCY: Department of the Army, DoD.

ACTION: Notice.

SUMMARY: In accordance with 35 U.S.C. 209(e) and 37 CFR 404.7(a)(1)(i), announcement is made of the intent to grant an exclusive, royalty-bearing, revocable license to U.S. provisional patent application filed April 24, 2006 entitled “Trauma Training Mannequin”; U.S. provisional patent application filed August 18, 2006 entitled “Trauma Training Mannequin”; U.S. provisional patent application filed June 8, 2006 entitled “Trauma Training System”; U.S. patent application filed April 23, 2007 entitled “Trauma Training System”; and foreign rights (PCT/US2005/043771) to Skedco, Inc., with its principal place of business at 10505 SW Manhasset Drive, Tualatin, Oregon 97062.

ADDRESSES: Commander, U.S. Army Medical Research and Materiel Command, ATTN: Command Judge Advocate, MCMR-ZA-J, 504 Scott Street, Fort Detrick, Frederick, MD 21702-5012.

FOR FURTHER INFORMATION CONTACT: For licensing issues, Dr. Paul Mele, Office of Research & Technology Assessment, (301) 619-6664. For patent issues, Ms. Elizabeth Arwine, Patent Attorney, (301) 619-7808, both at telefax (301) 619-5034.

SUPPLEMENTARY INFORMATION: Anyone wishing to object to the grant of this license can file written objections along with supporting evidence, if any, 15 days from the date of this publication. Written objections are to be filed with the Command Judge Advocate (see ADDRESSES).

Brenda S. Bowen,
Army Federal Register Liaison Officer.

[FR Doc. 07-3791 Filed 8-2-07; 8:45 am]

BILLING CODE 3710-08-M